DEPARTMENT OF THE TREASURY

Internal Revenue Service

26 CFR Part 1

[REG-102161-23]

RIN 1545-BQ89

Identification of Basket Contract Transactions as Listed Transactions; Hearing Cancellation

AGENCY: Internal Revenue Service (IRS), Treasury.

ACTION: Cancellation of a notice of public hearing on a proposed rulemaking and notice of public hearing.

SUMMARY: This document cancels a public hearing on proposed regulations that would identify transactions that are the same as, or substantially similar to, certain basket contract transactions as listed transactions, a type of reportable transaction.

DATES: The public hearing scheduled for September 26, 2024, at 10 a.m. ET is cancelled.

ADDRESSES: Public comments submitted for the proposed rule can be viewed electronically via the Federal eRulemaking Portal at https://www.regulations.gov by searching REG-102161-23. The public hearing scheduled to be held in the Auditorium at the Internal Revenue Building, 1111 Constitution Avenue NW, Washington, DC is cancelled.

FOR FURTHER INFORMATION CONTACT: Oluwafunmilayo Taylor, Section Chief, the Publications and Regulations Section at (202) 317-6901 (not a toll-free number).

SUPPLEMENTARY INFORMATION: A notice of proposed rulemaking and a notice of public hearing that appeared in the Federal Register on July 12, 2024 (89 FR 57111), announced that a public hearing being held in person and by teleconference was scheduled for September 26, 2024, at 10 a.m. ET. The subject of the public hearing is under 26 CFR part 1.

The public comment period for these regulations expired on September 10, 2024. The notice of proposed rulemaking and notice of public hearing instructed those interested in testifying at the public hearing to submit a request to testify and an outline of the topics to be addressed. We did not receive a request to testify at the Public Hearing. Therefore, the public hearing scheduled for September 26, 2024, at 10 a.m. ET is cancelled.

Kalle L. Wardlow,
Federal Register Liaison, Publications and Regulations, Associate Chief Counsel, (Procedure & Administration).

[FR Doc. 2024-21039 Filed 9-16-24; 8:45 am]

BILLING CODE 4830-01-P